DEPARTMENT OF THE TREASURY

Customs Service

19 CFR Parts 10 and 163

[T.D. 03-16]

1515-AD19

Implementation of the Andean Trade Promotion and Drug Eradication Act

Correction

In rule document 03-6867 beginning on page 14477 in the issue of Tuesday, March 25, 2003, make the following corrections:

1. On page 14477, the Cover page is in error and should read “Implementation of the Andean Trade Promotion and Drug Eradication Act; Interim Rule”.

2. On pages 14478 through 14500 in the running head, “Proposed Rules” should read “Rules and Regulations”.

[FR Doc. C3-06867 Filed 11-28-03; 8:45 am]

BILLING CODE 1505-01-D